NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by September 29, 2021. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Polly Penhale, ACA Permit Officer, at the above address, 703-292-7420.

SUPPLEMENTARY INFORMATION: The National Science Foundation, as directed by the Antarctic Conservation Act of 1978 (Pub. L. 95-541, 45 CFR 670), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2022-008

1. Applicant: Jonathan Schwartz, 411 Walnut St., #12926, Green Cove Springs, FL 32043

Activity for Which Permit is Requested: Waste management. The applicant seeks an Antarctic Conservation Act permit for a planned yacht-based expedition to the Antarctic Peninsula Region between December 2021 and March 2022. Activities include shore landings, photography, and wildlife viewing. Designated pollutants that would be generated during the trip include air emissions, wastewater (urine, grey water) and solid waste (food waste, human solid waste, and packaging materials). Human waste and grey water would be disposed of in offshore waters, complying with the provisions of Article 5 of Annex III and Article 6 of Annex IV of MARPOL Protocol. Food waste will either be macerated and discharged at least 12 miles from shore or ice shelves or stored aboard the vessel for disposal at port. All other wastes would be kept for proper disposal at the end of the expedition. The applicant also plans to use Unoccupied Arial Systems (UAS) for navigational purposes and occasional photography. UAS will be launched, recovered, and piloted from the primary vessel and mitigation measures are in place to minimize potential loss of the aircraft as well as to prevent possible disturbances to wildlife.

Location: Western Antarctic Peninsula.

Dates of Permitted Activities: December 26, 2021-April 1, 2022.

Erika N. Davis,
Program Specialist, Office of Polar Programs.

[FR Doc. 2021-18582 Filed 8-27-21; 8:45 am]

BILLING CODE 7555-01-P